INTERNATIONAL TRADE COMMISSION

[Investigation No. 731-TA-739 (Fourth Review)]

Clad Steel Plate From Japan; Cancellation of Hearing for Full Five-Year Review

AGENCY: United States International Trade Commission.

ACTION: Notice.

DATES: October 15, 2018.

FOR FURTHER INFORMATION CONTACT: Eric Daugherty ((202) 205-2078), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: Effective July 10, 2018, the Commission established a schedule for the conduct of this review (83 FR 33250, July 17, 2018). Pursuant to the schedule, the domestic interested party submitted the sole prehearing brief, and a request to appear at the Commission hearing scheduled for October 18, 2018. No other party has entered an appearance in this review. Subsequently, noting their sole request to appear at the hearing, counsel for the domestic interested party filed a request to cancel the hearing. Counsel indicated a willingness to submit written responses to any Commission questions in lieu of an actual hearing. Consequently, the public hearing in connection with this review, scheduled to begin at 9:30 a.m. on Thursday, October 18, 2018, at the U.S. International Trade Commission Building, is cancelled. Parties to this review should respond to any written questions posed by the Commission in their posthearing briefs, which are due to be filed on October 25, 2018.

For further information concerning this review see the Commission's notice cited above and the Commission's Rules of Practice and Procedure, part 201, subparts A through E (19 CFR part 201), and part 207, subparts A and C (19 CFR part 207).

Authority: This review is being conducted under authority of title VII of the Tariff Act of 1930; this notice is published pursuant to section 207.62 of the Commission's rules.

By order of the Commission.
Issued: October 16, 2018.
Lisa Barton,
Secretary to the Commission.

[FR Doc. 2018-22921 Filed 10-19-18; 8:45 am]

BILLING CODE 7020-02-P